DEPARTMENT OF THE TREASURY

Internal Revenue Service

26 CFR Part 1

[REG-142299-01 and REG-209135-88]

RIN 1545-BA36 and 1545-AW92

Certain Transfers of Property to Regulated Investment Companies and Real Estate Investment Trusts; Correction

AGENCY: Internal Revenue Service (IRS), Treasury.

ACTION: Notice of proposed rulemaking by cross-reference to temporary regulations.

SUMMARY: This document contains corrections to REG-142299-01 and REG-209135-88 that was published in the Federal Register on January 2, 2002 (67 FR 48). These regulations apply to certain transactions or events that result in a Regulated Investment Company [RIC] or Real Estate Investment Trust [REIT] owning property that has a basis determined by reference to a C corporation's basis in the property.

DATES: This correction is effective January 2, 2002.

FOR FURTHER INFORMATION CONTACT: Lisa A. Fuller (202) 622-7750 (not a toll-free number).

SUPPLEMENTARY INFORMATION:

Background

The notice of proposed rulemaking that is the subject of these corrections is under section 337(d) of the Internal Revenue Code.

Need for Correction

As published, REG-142299-01 and REG 209135-88 contains errors that may prove to be misleading and are in need of clarification.

Correction of Publication

Accordingly, the publication REG-142299-01 and REG-209135-88, which is the subject of FR. Doc. 01-31968, is corrected as follows:

1. On page 49, column 2, in the preamble under the paragraph heading “Background”, lines 14 and 15, the language “property to a RIC or REIT, then the RIC or REIT will be subject either to section”, is corrected to read “property to a RIC or REIT, then either the RIC or REIT will be subject to section”.

LaNita Van Dyke,
Acting Chief, Regulations Unit, Associate Chief Counsel (Income Tax and Accounting).

[FR Doc. 02-2155 Filed 1-28-02; 8:45 am]

BILLING CODE 4830-01-P